DEPARTMENT OF LABOR

Occupational Safety and Health Administration

[Docket No. OSHA-2012-0019]

National Advisory Committee on Occupational Safety and Health (NACOSH)

AGENCY: Occupational Safety and Health Administration (OSHA), Labor.

ACTION: Announcement of meetings of the National Advisory Committee on Occupational Safety and Health (NACOSH) and NACOSH Work Groups.

SUMMARY: NACOSH will meet June 20, 2012, in Washington, DC. In conjunction with the committee meeting, NACOSH Work Groups will meet on June 19, 2012.

DATES: NACOSH meeting: NACOSH will meet from 9 a.m. to 5 p.m. on Wednesday, June 20, 2012.

NACOSH Work Group meetings: NACOSH Work Groups will meet Tuesday, June 19, 2012. (For Work Group meeting times, see the NACOSH Work Group section in the SUPPLEMENTARY INFORMATION section of this notice.)

Submission of comments, requests to speak, speaker presentations and requests for special accommodations: Comments, requests to speak at the NACOSH meeting, speaker presentations, and requests for special accommodations for the NACOSH and NACOSH Work Group meetings must be submitted (postmarked, sent, transmitted) by June 11, 2012.

ADDRESSES: NACOSH and NACOSH Work Group meetings: NACOSH and its Work Groups will meet in Room N3437 A/B/C, U.S. Department of Labor, 200 Constitution Avenue NW., Washington, DC 20210.

Submission of comments, requests to speak and speaker presentations: You may submit comments, requests to speak at the NACOSH meeting and speaker presentations, identified by the docket number in this Federal Register notice (Docket No. OSHA-2012-0019), by one of the following methods:

Electronically: You may submit materials, including attachments, electronically at http://www.regulations.gov, the Federal eRulemaking Portal. Follow the online instructions for making submissions.

Facsimile: If your submission, including attachments, does not exceed 10 pages, you may fax it to the OSHA Docket Office at (202) 693-1648.

Mail, express delivery, messenger or courier service: You may submit your materials to the OSHA Docket Office, Docket No. OSHA-2012-0019, Room N-2625, U.S. Department of Labor, 200 Constitution Avenue NW., Washington, DC 20210; telephone (202) 693-2350 (TTY (887) 889-5627). Deliveries (hand, express mail, messenger, courier service) are accepted during the Department of Labor's and OSHA Docket Office's normal business hours, 8:15 a.m. to 4:45 p.m., e.t., weekdays.

Requests for special accommodations: Please submit requests for special accommodations for the NACOSH and NACOSH Work Group meetings to Ms. Veneta Chatmon, OSHA, Office of Communications, Room N-3647, U.S. Department of Labor, 200 Constitution Avenue NW., Washington, DC 20210; telephone (220) 693-1999; email chatmon.veneta@dol.gov.

Instructions: All submissions must include the Agency name and docket number for this Federal Register notice (Docket No. OSHA-2012-0019). Because of security-related procedures, submission by regular mail may result in significant delay in receipt. Please contact the OSHA Docket Office for information about security procedures for making submissions. For additional information about submitting comments, requests to speak and speaker presentations see the SUPPLEMENTARY INFORMATION section of this notice.

Comments, requests to speak and speaker presentations, including personal information provided, will be placed in the public docket and may be available online. Therefore, OSHA cautions interested parties about submitting personal information such as social security numbers and birthdates.

FOR FURTHER INFORMATION CONTACT: For press inquiries: Mr. Frank Meilinger, OSHA, Office of Communications, U.S. Department of Labor, Room N3647, 200 Constitution Avenue NW., Washington, DC 20210; telephone (202) 693-1999; meilinger.francis2@dol.gov.

For general information: Ms. Deborah Crawford, OSHA, Directorate of Evaluation and Analysis, U.S. Department of Labor, Room N-3641, 200 Constitution Avenue NW., Washington, DC 20210; telephone: (202) 693-1932; email crawford.deborah@dol.gov.

SUPPLEMENTARY INFORMATION:

NACOSH Meeting

NACOSH will meet Wednesday, June 20, 2012, in Washington, DC. NACOSH meetings are open to the public.

Section 7(a) of the Occupational Safety and Health Act of 1970 (OSH Act) (29 U.S.C. 651, 656) authorizes NACOSH to advise the Secretaries of Labor, and Health and Human Services, on matters relating to the administration of the OSH Act. NACOSH is a continuing advisory body and operates in compliance with the OSH Act, the Federal Advisory Committee Act (5 U.S.C. App. 2), and regulations issued pursuant to those laws (29 CFR 1912a, 41 CFR part 102-3).

The tentative agenda of the NACOSH meeting includes:

• Remarks from the Assistant Secretary of Labor for Occupational Safety and Health (OSHA);

• Remarks from the Director of the National Institute for Occupational Safety and Health (NIOSH);

• OSHA Directorate of Standards and Guidance presentation on the Hazard Communication final rule and the Globally Harmonized System for the Classification and Labeling of Chemicals (GHS) Standard;

• OSHA enforcement program updates;

• Presentation on recent changes and improvements in OSHA's Whistleblower Program;

• Presentation on the joint NIOSH-OSHA fall prevention in construction campaign;

• NACOSH Work Group reports and Committee administrative business; and

• Discussions on emerging issues.

OSHA transcribes NACOSH meetings and prepares detailed minutes of the meetings. OSHA places the meeting transcripts and minutes in the public record of the NACOSH meeting. The public record also includes Work Group reports, speaker presentations, comments and other materials submitted to NACOSH.

NACOSH Work Groups

NACOSH existing Work Groups, Injury and Illness Prevention Programs and Recordkeeping, will meet June 19, 2012, at 1:30 p.m. and 2:30 p.m., respectively.

OSHA is establishing a new NACOSH Effectiveness Measures Work Group to provide OSHA with recommendations on approaches to measure the effectiveness of OSHA's strategies, programs and activities. This Work Group will meet at 3:30 p.m., June 19.

The Work Groups will report back to the full committee at the June 20, 2012, NACOSH meeting.

Public Participation

NACOSH and NACOSH Work Group meetings. NACOSH and NACOSH Work Group meetings are open to the public. Any individual attending meetings at the U.S. Department of Labor must enter the building at the Visitors' Entrance, 3rd and C Streets, NW., and pass through Building Security. Attendees must have valid photo identification to enter the building. Please contact Ms. Crawford for additional information about building security measures for attending the NACOSH and NACOSH Work Group meetings.

Individuals needing special accommodations to attend NACOSH and NACOSH Work Group meetings should contact Ms. Chatmon.

Submission of written comments, requests to speak and speaker presentations: Interested parties must submit written comments, requests to speak at the NACOSH meeting and speaker presentations by June 11, 2012, using one of the methods listed in the ADDRESSES section. All submissions must include the Agency name and docket number for this Federal Register notice (Docket No. OSHA-2012-0019). OSHA will provide submissions to NACOSH members prior to the meeting.

Because of security-related procedures, submission by regular mail may result in significant delay in receipt. Please contact the OSHA Docket Office for information about security procedures for making submissions by hand delivery, express delivery, messenger or courier service.

Requests to speak must state the amount of time requested to speak, the interest the individual represents (e.g., organization name), if any, and a brief outline of the presentation. Electronic speaker presentations (e.g., PowerPoint) must be compatible with PowerPoint 2010 and other Microsoft 2010 formats. Requests to address NACOSH may be granted as at the discretion of the NACOSH chair and as time permits.

Public docket of the NACOSH meeting: OSHA puts comments, requests to speak and speaker presentations, including any personal information you provide, in the public record of this NACOSH meeting without change and those documents may be available online at http://www.regulations.gov. Therefore, OSHA cautions individuals about submitting certain personal information such as social security numbers and birthdates.

OSHA also puts the meeting transcripts and minutes, Work Group reports and other documents from the NACOSH meeting in the public record of the NACOSH meeting. Although all submissions are listed in the http://www.regulations.gov index, some documents (e.g., copy- righted materials) are not publicly available to read or download through that Web site. All submissions, including copyrighted material, are available for inspection and copying in the OSHA Docket Office.

To read or download documents in the public record of the NACOSH meeting, go to Docket No. OSHA-2012-0019 at http://www.regulations.gov. Please contact the OSHA Docket Office for information about materials not available through that Web site and for assistance in using the Internet to locate submissions and other documents in the public record.

Electronic copies of this Federal Register notice are available at http://www.regulations.gov. This notice, as well as news releases and other relevant information, also is available at the OSHA Web site at http://www.osha.gov.

Authority and Signature

David Michaels, Ph.D., MPH, Assistant Secretary of Labor for Occupational Safety and Health, directed the preparation of this notice under the authority granted by Section 7 of the Occupational Safety and Health Act of 1970 (U.S.C. 656), the Federal Advisory Committee Act (5 U.S.C. App. 2); 29 CFR part 1912a; 41 CFR part 102-3; and Secretary of Labor's Order No. 1-2012 (77 FR 3912 1/25/2012).

Signed at Washington, DC, on May 22, 2012.
David Michaels,
Assistant Secretary of Labor for Occupational Safety and Health.

[FR Doc. 2012-12771 Filed 5-24-12; 8:45 am]

BILLING CODE 4510-26-P